ENVIRONMENTAL PROTECTION AGENCY

40 CFR Part 52

[PA135-4101b; FRL-7389-1]

Approval and Promulgation of Air Quality Implementation Plans; Pennsylvania; Allegheny County's Generic VOC and NOX RACT Regulation and Revised Definitions

AGENCY: Environmental Protection Agency (EPA).

ACTION: Proposed rule.

SUMMARY: EPA proposes to approve revisions to the Pennsylvania State Implementation Plan (SIP) submitted by the Commonwealth of Pennsylvania on behalf of the Allegheny County Health Department, Bureau of Environmental Quality, Division of Air Quality (hereafter the ACHD). These revisions consist of a generic regulation which requires major sources of volatile organic compounds (VOC) and nitrogen oxides (NOX) to implement reasonably available control technology (RACT) and related changes to the definitions of the terms “major source” and “potential emissions” and “low NOX burner with separate overfire air”. This generic RACT regulation applies to major sources not otherwise subject to RACT pursuant to other ACHD regulations. These sources are located in Allegheny County which is part of the Pittsburgh-Beaver Valley ozone area. In the Final Rules section of this Federal Register, EPA is approving the ACHD's generic VOC and NOX regulation as a revision into the Pennsylvania SIP as a direct final rule without prior proposal because the Agency views this as a noncontroversial submittal and anticipates no adverse comments. The rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

DATES: Comments must be received in writing by November 6, 2002.

ADDRESSES: Written comments should be addressed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; Allegheny County Health Department, Bureau of Environmental Quality, Division of Air Quality, 301 39th Street, Pittsburgh, Pennsylvania 15201 and the Pennsylvania Department of Environmental Resources Bureau of Air Quality Control, PO Box 8468, 400 Market Street, Harrisburg, Pennsylvania 17105.

FOR FURTHER INFORMATION CONTACT: Janice Lewis at (215) 814-2185, the EPA Region III address above or by e-mail at lewis.janice@epa.gov. Please note that while questions may be posed via telephone and e-mail, formal comments must be submitted, in writing, as indicated in the ADDRESSES section of this document.

SUPPLEMENTARY INFORMATION: For further information, please see the information provided in the direct final action for Allegheny County's generic RACT regulations, that is located in the “Rules and Regulations” section of this Federal Register publication.

Dated: September 24, 2002.
James M. Newsom,
Acting Regional Administrator, Region III.

[FR Doc. 02-25286 Filed 10-4-02; 8:45 am]

BILLING CODE 6560-50-P